CORPORATION FOR NATIONAL AND COMMUNITY SERVICE

Privacy Act of 1974; Matching Program

AGENCY: Corporation for National and Community Service.

ACTION: Notice of a new matching program.

SUMMARY: In accordance with the Privacy Act of 1974, as amended by the Computer Matching and Privacy Protection Act of 1988, OMB Final Guidance Interpreting the Provisions of the Computer Matching and Privacy Protection Act of 1988, and OMB Circular No. A-130, “Management of Federal Information Resources,” the Corporation for National and Community Service (operating as AmeriCorps) is issuing a public notice of the computer matching program with the Social Security Administration (SSA). The program will enable AmeriCorps to verify the Social Security numbers of individuals who are applying to serve in approved national service positions and those designated to receive national service education awards, to confirm that applicants meet eligibility requirements and to verify their statements regarding their citizenship status.

DATES: Comments must be received by March 30, 2026. If AmeriCorps determines that significant changes to the matching agreement are necessary, it will publish a revised notice with an additional 30-day public comment period. The matching program will begin April 1, 2026, and will continue for 18 months after the effective date. It may be extended for an additional 12 months thereafter, if the conditions specified in 5 U.S.C. 552a(o)(2)(D) have been met.

ADDRESSES: You may submit comments identified by the title of the information collection activity, by any of the following methods.

(1) Electronically through www.regulations.gov (preferred method).

(2) By mail sent to: AmeriCorps, Attention Bilal Razzaq, 250 E Street SW, Washington, DC 20525.

(3) By hand delivery or by courier to the AmeriCorps mailroom at the mail address given in paragraph (2) above, between 9 a.m. and 4 p.m. Eastern Time, Monday through Friday, except Federal holidays.

Comments submitted in response to this notice may be made available to the public through regulations.gov. For this reason, please do not include in your comments information of a confidential nature, such as sensitive personal information or proprietary information. If you send an email comment, your email address will be automatically captured and included as part of the comment that is placed in the public docket and made available on the internet. Please note that responses to this public comment request containing any routine notice about the confidentiality of the communication will be treated as public comment that may be made available to the public, notwithstanding the inclusion of the routine notice.

FOR FURTHER INFORMATION CONTACT: Bilal Razzaq, Chief Information Security and Privacy Officer, 202-606-3254, or by email at brazzaq@americorps.gov.

SUPPLEMENTARY INFORMATION: The Privacy Act of 1974 (5 U.S.C. 552a), as amended by the Computer Matching and Privacy Protection Act of 1988 (Pub. L. 100-503), regulates the use of computer matching agreements by Federal agencies when records in a system of records are matched with other Federal, State, or local government records. Among other things, it requires Federal agencies involved in computer matching agreements to publish a notice in the Federal Register regarding the establishment of the matching program.

AmeriCorps has entered into a computer matching agreement with the Social Security Administration (SSA) to provide AmeriCorps with Social Security number verifications to ensure individuals meet the eligibility requirement for an education award in section 146(a)(3) of the National and Community Service Act of 1990, as amended (42 U.S.C. 12602(a)(3)). The agreement will be in effect for a period of 18 months, with a provision for a one-time extension for a period not to exceed 12 months. To renew the agreement, both AmeriCorps and SSA must certify to their respective Data Integrity Boards that: (1) the matching program will be conducted without change; and (2) the matching program has been conducted in compliance with the original agreement.

AmeriCorps will provide SSA with a data file including each applicant's and potential education award recipient's Social Security number, first and last names, and date of birth. SSA will conduct a match on the identifying information. If the match does not return a result verifying the individual's citizenship status, AmeriCorps will contact the individual or the grant recipient program that selected the individual to verify the results in accordance with the requirements of 5 U.S.C. 552a(p) and applicable OMB guidelines. The affected individual will have an opportunity to contest the accuracy of the information provided by SSA. The applicant will have at least 30 days from the date the notice is mailed or otherwise provided to the applicant to provide clear and convincing evidence of the accuracy of the Social Security number, proof of U.S. citizenship, or both.

Applicants will be informed at the time of application that information provided on the application is subject to verification through the Privacy Act Statement in the Member Portal. All members read and acknowledge the Privacy Act Statement when registering an account in the Member Portal, which is required as a part of the application process.

Section 148(f) of the NCSA authorizes recipients of education awards to a designated individual—the transferee. For transferees of education awards, at the time an award is transferred, AmeriCorps will provide the individual notice that the SSN is subject to verification through a computer matching program. AmeriCorps will send a privacy notice to the transferee, and in the case of a minor, to the parent or legal guardian. The transferee, parent, or legal guardian must sign the privacy certification authorizing AmeriCorps to verify the information provided.

AmeriCorps has furnished a copy of this notice to both Houses of Congress and the Office of Management and Budget.

Participating Agencies

Participants in this computer matching program are the Social Security Administration (source agency) and the Corporation for National and Community Service (recipient agency).

Authority for Conducting the Matching Program

This agreement is executed in compliance with the Privacy Act of 1974, as amended by the Computer Matching and Privacy Protection Act of 1988 (5 U.S.C. 552a), and the regulations and guidance promulgated under the Act.

SSA's legal authority to enter into this agreement is pursuant to section 1106 of the Social Security Act (Act) (42 U.S.C. 1306); the Privacy Act and the regulations and guidance promulgated thereunder; the Intelligence Reform and Terrorism Prevention Act of 2004 (IRTPA) (Pub. L. 108-458 § 7213); and SSA's disclosure regulations at 20 CFR part 401.

Section 146(a)(3) of the National and Community Service Act of 1990, as amended (NCSA) (42 U.S.C. 12602(a)), sets forth the eligibility requirements for an individual to receive a national service educational award from the National Service Trust upon successful completion of a term of service in an approved national service position. Section 1711 of the Serve America Act (Pub. L. 111-13) directs AmeriCorps to enter into a data matching agreement to verify statements made by an individual declaring that such individual is in compliance with section 146(a)(3) of the NCSA shall be verified by comparing information provided by the individual with information relevant to such a declaration in the possession of another Federal agency. In accordance with the study AmeriCorps completed pursuant to section 1711 of the Serve America Act, AmeriCorps determined that a data matching program with SSA is the most effective means to verify an individual's statement that they are in compliance with section 146(a)(3) of the NCSA.

Purpose(s)

The computer match between AmeriCorps and SSA will enable AmeriCorps to verify the Social Security numbers of individuals who are applying to serve in approved national service positions and those designated to receive national service education awards under the NCSA to confirm that applicants meet the eligibility requirements in section 146(a)(3), that is that they are a citizen or national of the United States or a lawful permanent resident alien of the United States and verify statements made by those individuals regarding their citizenship status.

Categories of Individuals

Each individual who is eligible to receive an education award or applies to serve in an approved national service position, including positions in AmeriCorps State and National, AmeriCorps VISTA, AmeriCorps NCCC, and Serve America Fellows, must, at the time of acceptance of an education award or application to serve, certify that they meet the citizenship eligibility criteria to serve in the position—that is, that they are a citizen, national, or lawful permanent resident of the United States.

Categories of Records

The categories of records involved in the matching program are the applicants' Social Security Number, date of birth, and first and last name. AmeriCorps will provide SSA with the records and SSA will match the records and provide verification status.

System(s) of Records

SSA will match the data elements AmeriCorps transmits in its verification requests against SSA's records, as authorized by the Systems of Records (SOR) 60-0058, Master Files of Social Security Number (SSN) Holders and SSN Applications (Enumeration System). (90 FR 10025). The information AmeriCorps provides from the AmeriCorps Member Management Files, CNCS-04-CPO-MPMF, published August 13, 2024 (89 FR 65866) will be matched against this system of records and verification results will be disclosed under the applicable routine use.

Charndrea Leonard,
Senior Agency Official for Privacy.

[FR Doc. 2026-03927 Filed 2-26-26; 8:45 am]

BILLING CODE 6050-28-P